DEPARTMENT OF ENERGY

Federal Energy Regulatory Commission

[Docket No. EL01-10-133]

Puget Sound Energy, Inc. v. All Jurisdictional Sellers, et al.; Notice of Filing

Take notice that on March 24, 2014, Idaho Power Company and IDACORP Energy Services Company submitted their Settlement and Release of Claims Agreement in accordance with Commission's February 21, 2014 Letter Order, Puget Sound Energy, Inc. v. All Jurisdictional Sellers, et al., Order Approving Settlement Agreement, 146 FERC ¶ 61,123 (2014) (February 21 Order).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on April 14, 2014.

Dated: March 25, 2014.
Kimberly D. Bose,
Secretary.

[FR Doc. 2014-07181 Filed 3-31-14; 8:45 am]

BILLING CODE 6717-01-P